DEPARTMENT OF AGRICULTURE

Food Safety and Inspection Service

[Docket No. 00-027N]

Availability of Materials on In-Distribution Activities and Initiatives

AGENCY: Food Safety and Inspection Service, USDA.

ACTION: Notice.

SUMMARY: The Food Safety and Inspection Service (FSIS) is announcing the availability of materials from the June 9, 2000, public meeting on in-distribution (ID) activities and initiatives and is providing an opportunity for public comment on those materials and on the matters presented at the public meeting. The June 9 meeting was held to discuss the Agency's strategy for addressing the safety of meat and poultry products during distribution and to provide an overview and update on the ID Project.

DATES: The materials will be available in the FSIS docket room and on the FSIS web site. Persons are invited to review and submit comments on the materials. Comments should be received by September 13, 2000.

ADDRESSES: Submit one original and two copies of written comments to FSIS Docket Clerk, Docket #00-027N, U.S. Department of Agriculture, Food Safety and Inspection Service, Room 102 Cotton Annex Building, 300 12th Street, SW., Washington, DC 20250-3700. All comments submitted in response to this notice will be available for public inspection in the Docket Clerk's Office between 8:30 a.m. and 4:30 p.m., Monday through Friday.

FOR FURTHER INFORMATION CONTACT: Ms. Mary Cutshall, National HACCP Small and Very Small Plant Coordinator, at (202) 720-3219, by FAX (202) 690-0824, or by e-mail: mary.cutshall@usda.gov.

SUPPLEMENTARY INFORMATION: As part of the implementation of FSIS' Pathogen Reduction; Hazard Analysis and Critical Control Point (HACCP) System final rule (July 25, 1996; 61 FR 38806), the Agency is committed to developing strategies that address food safety hazards throughout the entire food production chain.

Under the Federal Meat Inspection Act and the Poultry Products Inspection Act, FSIS has the authority and responsibility to ensure the safety of meat and poultry products during in-plant production and also through transportation, storage, and other handling. Traditionally, the Agency has assigned the greater majority of its resources to inspection activities in meat and poultry slaughter and processing plants.

FSIS now is looking at strategies for monitoring the safety of meat and poultry products after they leave an inspected plant. One of these strategies is through the ID Project, which explores the effects of redeployment of inspection personnel outside the plant. The Agency has assigned 10 inspection personnel to the ID Project.

FSIS also is working with the State of Minnesota to develop an alternative strategy for addressing food safety hazards and other problems presented by federally inspected product in distribution. Under this approach, the State will advise FSIS of adulterated or misbranded federally inspected products that State inspectors find at retail, distribution, and warehouse centers in the course of their regular inspection activities.

FSIS requests public comment on its current thinking about how to ensure that meat and poultry products in distribution do not become adulterated or misbranded and continue to qualify to bear USDA's mark of inspection. FSIS explained its current thinking at the June 9 public meeting.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to more than 300 organizations and individuals. In addition, the update is available on-line through the FSIS web page located at http://www.fsis.usda.gov. The update is used to provide information regarding FSIS policies, procedures, regulations, Federal Register notices, FSIS public meetings, recalls, and any other types of information that could affect or would be of interest to Agency constituents or stakeholders. The constituent fax list consists of industry, trade, and farm groups, consumer interest groups, allied health professionals, scientific professionals, and other individuals who have requested to be included. Through these various channels, FSIS is able to provide information to a much broader, more diverse audience. For more information and to be added to the constituent fax list, fax your request to the Congressional and Public Affairs Office, at (202) 720-5704.

Done in Washington, DC, on: July 28, 2000.
Thomas J. Billy,
Administrator.

[FR Doc. 00-20548 Filed 8-11-00; 8:45 am]

BILLING CODE 3410-DM-P